FEDERAL ELECTION COMMISSION

Sunshine Act Meeting

TIME AND DATE: Thursday, September 6, 2018 at 3:00 p.m.

PLACE: 1050 First Street NE, Washington, DC (12th Floor).

STATUS: This meeting will be open to the public.

MATTERS TO BE CONSIDERED:

Correction and Approval of Minutes for August 2, 2018

Draft Advisory Opinion 2018-11: Microsoft Corporation

Notice of Availability for REG 2018-02 (Leadership PACs' Personal Use)

Implementation of OMB Circular A-123: Internal Control Program

Management and Administrative Matters

CONTACT PERSON FOR MORE INFORMATION: Judith Ingram, Press Officer, Telephone: (202) 694-1220.

Individuals who plan to attend and require special assistance, such as sign language interpretation or other reasonable accommodations, should contact Dayna C. Brown, Secretary and Clerk, at (202) 694-1040, at least 72 hours prior to the meeting date.

Dayna C. Brown,
Secretary and Clerk of the Commission.

[FR Doc. 2018-19229 Filed 8-30-18; 4:15 pm]

BILLING CODE 6715-01-P